DEPARTMENT OF ENERGY

Federal Energy Regulatory Commission

[Docket No. EC02-42-000, et al.]

Maritime Electric Company, Limited, et al; Electric Rate and Corporate Regulation Filings

January 16, 2002.

Take notice that the following filings have been made with the Commission. Any comments should be submitted in accordance with Standard Paragraph E at the end of this notice.

1. Maritime Electric Company, Limited, FortisUS Energy Corporation and Fortis Properties Corporation

[Docket No. EC02-42-000]

Take notice that on January 10, 2002, Maritime Electric Company, Limited, on behalf of itself, FortisUS Energy Corporation, and Fortis Properties Corporation, tendered for filing with the Federal Energy Regulatory Commission (Commission), pursuant to section 203 of the Federal Power Act, 16 U.S.C. section 824b (1994), and part 33 of the Commission's regulations, 18 CFR part 33, an application for authorization to dispose of jurisdictional facilities under an intra-corporate restructuring.

Comment Date: January 31, 2002.

2. TXU Tradinghouse Company LP

[Docket No. EG02-49-000]

Take notice that on January 14, 2002, TXU Tradinghouse Company LP (TXU) tendered for filing with the Federal Energy Regulatory Commission (Commission) an amendment to application for exempt wholesale generator status pursuant to part 365 of the Commission's regulations.

Comment Date: January 31, 2002, the Commission will limit its consideration of comments to those that concern the adequacy or accuracy of the application.

3. TXU DeCordova Company LP

[Docket No. EG02-50-000]

Take notice that on January 14, 2002, TXU DeCordova Company LP tendered for filing with the Federal Energy Regulatory Commission (Commission) an amendment to its application for exempt wholesale generator status filed pursuant to part 365 of the Commission's regulations.

Comment Date: January 31, 2002, the Commission will limit its consideration of comments to those that concern the adequacy or accuracy of the application.

4. TXU Mountain Creek Company LP

[Docket No. EG02-51-000]

Take notice that on January 14, 2002, TXU Mountain Creek Company LP tendered for filing with the Federal Energy Regulatory Commission (Commission) an amendment to its application for exempt wholesale generator status filed pursuant to part 365 of the Commission's regulations.

Comment Date: January 31, 2002, the Commission will limit its consideration of comments to those that concern the adequacy or accuracy of the application.

5. TXU Big Brown Company LP

[Docket No. EG02-52-000]

Take notice that on January 14, 2002, TXU Big Brown Company LP tendered for filing with the Federal Energy Regulatory Commission (Commission) an amendment to its application for exempt wholesale generator status filed pursuant to part 365 of the Commission's regulations.

Comment Date: January 31, 2002, the Commission will limit its consideration of comments to those that concern the adequacy or accuracy of the application.

6. TXU Handley Company LP

[Docket No. EG02-53-000]

Take notice that on January 14, 2002, TXU Handley Company LP tendered for filing with the Federal Energy Regulatory Commission (Commission) an amendment to its application for exempt wholesale generator status filed pursuant to part 365 of the Commission's regulations.

Comment Date: January 31, 2002, the Commission will limit its consideration of comments to those that concern the adequacy or accuracy of the application.

7. TXU Generation Company LP

[Docket No. EG02-54-000]

Take notice that on January 14, 2002, TXU Generation Company LP tendered for filing with the Federal Energy Regulatory Commission (Commission) an amendment to its application for exempt wholesale generator status filed pursuant to part 365 of the Commission's regulations.

Comment Date: January 31, 2002, the Commission will limit its consideration of comments to those that concern the adequacy or accuracy of the application.

8. ExTex LaPorte Limited Partnership

[Docket No. EG02-60-000]

Take notice that on January 9, 2002, ExTex LaPorte Limited Partnership (ExTex) filed a supplement to its Application for Determination of Exempt Wholesale Generator Status pursuant to section 32(a)(1) of the Public Utility Holding Company Act of 1935.

Comment Date: February 6, 2002, the Commission will limit its consideration of comments to those that concern the adequacy or accuracy of the application.

9. Southwestern Electric Power Company

[Docket No. ER02-251-000]

Take notice that on January 10, 2002, Southwestern Electric Power Company (SWEPCO) tendered for filing with the Federal Energy Regulatory Commission (Commission) a Restated and Amended Power Supply Agreement Between Southwestern Electric Power Company and the City of Hope, Arkansas.

Comment Date: January 31, 2002.

10. Central Maine Power Company

[Docket No. ER02-720-000]

Take notice that on January 8, 2002, Central Maine Power Company (Central Maine) filed with the Federal Energy Regulatory Commission (Commission), pursuant to section 205 of the Federal Power Act, an executed System Contract Entitlement Agreement, an executed Renewable and Eligible Resource Entitlement Agreement, and an executed Nuclear Entitlement Agreement (collectively, Entitlement Agreements), as well as an executed Comprehensive Credit Support and Final Settlement Calculation Agreement (A Credit Support Agreements). In addition, CMP requested confidential treatment for certain competitively sensitive material contained in the Entitlement Agreements and Credit Support Agreement.

Comment Date: January 29, 2002.

11. PPL Electric Utilities Corporation

[Docket No. ER02-722-000]

Take notice that on January 8, 2002, PPL Electric Utilities Corporation (PPL Electric) filed notice of termination of the Service Agreement between it and GPU Advanced Resources, Inc. designated as Service Agreement No. 11 under PPL Electric's FERC Electric Rate Schedule, First Revised Volume No. 5. PPL Electric requests a March 11, 2002 termination date for the Agreement.

Notice of the termination has been served upon GPU Advanced Resources, Inc.

Comment Date: January 29, 2002.

12. MxEnergy Inc.

[Docket No. ER02-737-000]

Take notice that on January 9, 2002, MxEnergy Inc. (Seller) petitioned the Federal Energy Regulatory Commission (Commission) for an order: (1) Accepting Seller's proposed FERC rate schedule for market-based rates; (2) granting waiver of certain requirements under subparts B and C of part 35 of the regulations; (3) granting the blanket approvals normally accorded sellers permitted to sell at market-based rates; and (4) granting waiver of the 60-day notice period.

Comment Date: January 30, 2002.

13. Illinois Power Company

[Docket No. ER02-738-000]

Take notice that on January 9, 2002, Illinois Power Company (Illinois Power), filed with the Federal Energy Regulatory Commission (Commission) a Service Agreement for Network Integration Transmission Service entered into by Illinois Power and Corn Belt Electric Cooperative Inc., pursuant to Illinois Power's Open Access Transmission Tariff.

Illinois Power requests an effective date of January 1, 2002, for the Agreements and accordingly seeks a waiver of the Commission's notice requirement.

Comment Date: January 30, 2002.

14. Avista Corporation

[Docket No. ER02-739-000]

Take notice that on January 9, 2002, Avista Corporation, tendered for filing with the Federal Energy Regulatory Commission (Commission) pursuant to section 35.12 of the Commissions, 18 CFR part 35.12 , an executed Mutual Netting Agreement, Rate Schedule No. 292, with Sacramento Municipal Utility District, effective January 1, 2002.

Notice of the filing has been served to Mr. Thomas W. Ingwers Director, Energy Trading & Contracts Sacramento Municipal Utility District.

Comment Date: January 30, 2002.

15. Northwest Natural Gas Company

[Docket No. ER02-740-000]

Take notice that on January 9, 2002, Northwest Natural Gas Company (NW Natural) tendered for filing with the Federal Energy Regulatory Commission (Commission) a Notice of Cancellation of its Rate Schedule FERC No. 1 applicable to sales of electricity at market-based rates. NW Natural states that it has not made any sales of electricity under that rate schedule and has no plans to do so.

NW Natural has asked to make the Notice of Cancellation effective on January 10, 2002.

Comment Date: January 30, 2002.

16. Exelon Generation Company, LLC

[Docket No. ER02-741-000]

Take notice that on January 10, 2002, Exelon Generation Company, LLC tendered for filing a service agreement under its market-based rate wholesale power sales tariff under which it will make sales of capacity and energy to Exelon Energy Company.

Comment Date: January 31, 2002.

17. Progress Energy on behalf of Florida Power Corporation

[Docket No. ER02-742-000]

Take notice that on January 10, 2002, Florida Power Corporation (FPC) tendered for filing a Service Agreement for Network Contract Demand Transmission Service with Florida Power & Light Company. Service to this Eligible Customer will be in accordance with the terms and conditions of the Open Access Transmission Tariff filed on behalf of FPC. A copy of the filing was served upon the Florida Public Service Commission and the North Carolina Utilities Commission.

FPC is requesting an effective date of January 1, 2002 for this Service Agreement.

Comment Date: January 31, 2002.

18. Cinergy Services, Inc.

[Docket No. ER02-743-000]

Take notice that on January 10, 2002, Cinergy Services, Inc. (Cinergy) tendered for filing a Service Agreement under Cinergy's Resale, Assignment or Transfer of Transmission Rights and Ancillary Service Rights Tariff (the Tariff) entered into between Cinergy and East Kentucky Power Cooperative, Inc. (East Kentucky). This Service Agreement has been executed by both parties and is to replace the existing unexecuted Service Agreement.

Comment Date: January 31, 2002.

19. New York State Electric & Gas Corporation

[Docket No. ER02-744-000]

Take notice that on January 10, 2002, New York State Electric & Gas Corporation (NYSEG) tendered for filing with the Federal Energy Regulatory Commission (Commission) pursuant to section 205 of the Federal Power Act and section 35.13 of the Commission's regulations, a supplement to Rate schedule 72 filed with FERC corresponding to an agreement with the Municipal Board of the Village of Bath (the Village). The proposed supplement would decrease revenues by $277.63 based on the twelve month period ending December 31, 2000.

NYSEG requests an effective date of January 1, 2002. Copies of the filing were served upon the Municipal board of the Village of Bath and the Public Service Commission of the State of New York.

Comment Date: January 31, 2002.

20. American Transmission Company LLC

[Docket No. ER02-753-000]

Take notice that on January 10, 2002, American Transmission Company LLC (ATCLLC) tendered for filing a Revised Network Operating Agreement and a Revised Network Integration Service Agreement for Wisconsin Rapids Water Works and Lighting Commission. ATCLLC requests an effective date of January 1, 2002.

Comment Date: January 31, 2002.

21. Consolidated Edison Company of New York, Inc.

[Docket No. ER02-754-000]

Take notice that on January 10, 2002, Consolidated Edison Company of New York, Inc. (Con Edison) tendered for filing a Supplement to its Rate Schedule, Con Edison Rate Schedule FERC No. 2, a facilities agreement with Central Hudson Gas and Electric Corporation (CH). The Supplement provides for a decrease in the monthly carrying charges. Con Edison has requested that this decrease take effect as of September 1, 2001.

Con Edison states that a copy of this filing has been served by mail upon CH.

Comment Date: January 31, 2002.

22. Virginia Electric and Power Company

[Docket No. ER02-755-000]

Take notice that on January 10, 2002, Virginia Electric and Power Company, doing business as Dominion Virginia Power, tendered for filing with the Federal Energy Regulatory Commission (Commission) an unexecuted Generator Interconnection and Operating Agreement (Interconnection Agreement) with GenPower Earleys, L.L.C. (GenPower) that complies with the Commission's December 11, 2001 Order.

Dominion Virginia Power respectfully requests that the Commission accept this filing to make the revised tariff page effective as of December 11, 2001, the same date the Commission made the Interconnection Agreement effective in its December 11th Order.

Copies of the filing were served upon GenPower, the North Carolina Utilities Commission and the Virginia State Corporation Commission.

Comment Date: January 31, 2002.

Standard Paragraph

E. Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Acting Secretary.

[FR Doc. 02-1697 Filed 1-23-02; 8:45 am]

BILLING CODE 6717-01-P